DEPARTMENT OF HEALTH AND HUMAN SERVICES (HHS)

Administration for Children and Families (ACF)

Office of Child Support Enforcement (OCSE); Privacy Act of 1974; Amended System of Records

AGENCY: Office of Child Support Enforcement, ACF, HHS.

ACTION: Notice of Amended System of Records.

SUMMARY: In accordance with the requirements of the Privacy Act of 1974 (5 U.S.C. 552a), the Office of Child Support Enforcement (OCSE) is publishing notice of amendment of its system of records, entitled “Federal Case Registry of Child Support Orders” (FCR), 09-80-0202, last published at 69 FR 46550 on August 3, 2004. The amendment adds four routine uses; new categories of records; and clarifying information and technical amendments.

DATES: Department of Health and Human Services (HHS) invites interested parties to submit written comments on the proposed notice until May 15, 2008. As required by the Privacy Act (5 U.S.C. 552a(r)), HHS on April 8, 2008 sent a report of an Amended System of Records to the Committee on Homeland Security and Governmental Affairs of the Senate, the Committee on Oversight and Government Reform of the House of Representatives, and the Office of Information and Regulatory Affairs of the Office of Management and Budget (OMB). The amendments described in this notice are effective on May 15, 2008, unless HHS receives comments that would result in a contrary determination.

ADDRESSES: Interested parties may submit written comment on this notice by writing to Linda Deimeke, Director, Division of Federal Systems, Office of Automation and Program Operations, Office of Child Support Enforcement, Administration for Children and Families, 370 L'Enfant Promenade, SW., Washington, DC 20447. Comments received will be available for public inspection at this address from 9 a.m. to 5 p.m. Monday through Friday.

FOR FURTHER INFORMATION CONTACT: Linda Deimeke, Director, Division of Federal Systems, Office of Child Support Enforcement, 370 L'Enfant Promenade, SW., Washington, DC 20447. Telephone Number (202) 401-5439.

SUPPLEMENTARY INFORMATION: The Office of Child Support Enforcement (OCSE) is amending one of its systems of records, “Federal Case Registry of Child Support Orders” (FCR), 09-80-0202, last published at 69 FR 46550 on August 3, 2004.

First, OCSE is adding a routine use (15) to facilitate international child support enforcement in cases involving residents of the United States and residents of foreign countries that are the subject of a declaration under section 459A of the Social Security Act, by providing to foreign reciprocating countries notification of the state of residence of individuals sought for support enforcement.

Second, OCSE is adding a routine use (16) for the disclosure to authorized OCSE users and the HHS Office of Inspector General, Office of Investigations, in accordance with established procedures for the purpose of Federal criminal nonsupport prosecution.

Third, in accordance with a memorandum issued by the Office of Management and Budget, OCSE is adding a routine use (17) for the FCR pertaining to the disclosure of information to appropriate persons and entities for purposes of response and remedial efforts in the event of a breach of data maintained in the FCR. This routine use will facilitate an effective response to a confirmed or suspected breach by allowing for disclosure to those individuals affected by the breach, as well as to others who are in a position to assist in response efforts.

Fourth, OCSE is adding a routine use (18) for disclosures to authorized agency contractors for the purpose of accomplishing an agency function.

Fifth, OCSE is adding a category of records that will be maintained within the FCR, records from locate requests, which are disseminated through the FCR. Note: OCSE assists State child support agencies and other authorized persons in locating individuals who are involved in child support cases and to locate employment and asset information maintained in OCSE's National Directory of New Hires (NDNH) database, and within other Federal agencies' records. Records from locate requests are included in this Notice as a category of records within the system of records because they are disseminated through the FCR. However, because the records are collected and maintained within the NDNH prior to disclosure through the FCR, the routine uses under which they are disclosed are published in the system of record notice for the Location and Collection System.

Sixth, OCSE is adding a category of records that will be maintained within the FCR, records from locate requests, which are retained within the FCR as a result of a computer system enhancement to electronically filter and suppress redundant information that would have been transmitted to State child support agencies or other authorized persons. This new filtering, suppressing process will also reduce State child support agencies' staff and computer processing unit costs.

Seventh, OCSE is adding a category of records maintained in the FCR, transaction audit logs.

The amendment also revises and expands upon the language of the previous system of records Notice and adds other clarifying information and technical amendments.

Dated: March 21, 2008.
Margot Bean,
Commissioner, Office of Child Support Enforcement.

09-80-0202

SYSTEM NAME:

Federal Case Registry of Child Support Orders (FCR).

SECURITY CLASSIFICATION:

None.

SYSTEM LOCATION:

National Computer Center, Social Security Administration, Baltimore, Maryland.

CATEGORIES OF INDIVIDUALS COVERED BY THE SYSTEM:

The categories of individuals whose records are maintained within this system are: (1) Individuals involved in child support cases being enforced by the State child support agencies, and (2) individuals who are parties to child support orders established or modified after October 1, 1998. The individuals include custodial parties, non-custodial parents, putative fathers (individuals whose parentage is alleged but not established), and children. The information is obtained from the State Case Registries.

CATEGORIES OF RECORDS IN THE SYSTEM:

The FCR maintains, collects, and disseminates several categories of records. The FCR collects records provided by State Child Support Registries. These records are information from child support cases and support orders being enforced by the State child support agencies. The records may include the following information: name, Social Security number (SSN), State case identification number, State Federal Information Processing Standard (FIPS) code, county code, case type (IV-D, non-IV-D), sex, date of birth, mother's maiden name, father's name, participant type (custodial party, non-custodial parent, putative father, child), family violence indicator (domestic violence or child abuse), order indicator, locate request type, and requested locate source. These records are maintained within the FCR and are regularly compared (matched) to the National Directory of New Hires (NDNH) and other Federal agencies' databases to locate information for the State child support agencies or other authorized persons.

State child support agencies and other authorized persons can directly request locate information (locate requests) from Federal Parent Locator Service (FPLS), which includes the FCR system of records, and the “Location and Collection System” (LCS), 09-90-0074. The Notice for the LCS lists the authority and routine uses of disclosures from the LCS. The FPLS must also seek the requested locate information from other Federal agencies. When State child support agencies, or other authorized persons, make locate requests to the FPLS, the request is transmitted to the FPLS via the FCR. Upon receipt of such requests, or as a result of the regular comparisons of the FCR with the NDNH and other agencies' databases, the records located pertaining to the requests are disseminated to the requestor via the FCR. The records disseminated, depending upon the requestor's specific authority, may include information retrieved from the FCR, from the NDNH, or from other Federal agencies. Records from the NDNH and other agencies disseminated through the FCR may include categories of information such as name, SSN, address, phone number, employer, employment status and wages, retirement status and pay, assets, military status and pay, Federal benefits status and amount, representative payees, unemployment status and amount, children's health insurance, incarceration status, financial institution accounts, assets, and date of death. The FCR also contains information related to those categories of records; for example, the date of receipt of Federal benefits.

The FCR maintains records (logs) of transactions involving the receipt of locate requests and the dissemination of requested information and copies of the disseminated locate information for the purpose of electronically filtering and suppressing the transmission of redundant locate information.

AUTHORITY OF MAINTENANCE OF THE SYSTEM:

The Social Security Act (the Act), Section 453(a)(1) requires HHS to establish and conduct a FPLS pursuant to 42 U.S.C. 653(a)(1). Section 452(a)(9) of the Act placed the operation of the FPLS under the direction of the Office of Child Support Enforcement (OCSE) pursuant to 42 U.S.C. 652(a)(9). Section 456(h) requires OCSE to maintain within the FPLS an automated registry, the “Federal Case Registry of Child Support Orders” (FCR), containing abstracts of support cases and orders as furnished and regularly updated by State child support agencies pursuant to 42 U.S.C § 653(h).

PURPOSES:

The primary purpose of the FCR is to assist States in establishing parentage or establishing, setting the amount of, modifying, or enforcing child support obligations. OCSE is required to compare records transmitted to or maintained within the FCR to records maintained within the NDNH and other Federal agencies' databases and discloses information about the individuals within the records to State child support agencies or other authorized persons. The information assists State child support agencies or other authorized persons by locating individuals and their employment and asset information who are involved in child support cases. The FCR also conducts FCR to FCR comparisons to locate information about individuals who are involved in child support cases in more than one State and provides the information to those States. Other purposes of the FCR are: to provide locate information (state of residence) pertaining to individuals sought pursuant to the Convention on the Civil Aspects of International Child Abduction to authorized persons in a Central Authority; to assist the Attorney General of the United States in locating any parent or child for the purpose of enforcing State or Federal law with respect to the unlawful taking or restraint of a child, or making or enforcing a child custody or visitation determination; and to assist the Secretary of the Treasury in administering the sections of the Internal Revenue Code of 1986 which grant tax benefits based on support or residence of children. FCR records, without personal identifiers, are also available for research purposes likely to contribute to achieving the purposes of the Temporary Assistance for Needy Families (TANF) or the Federal/State child support program.

ROUTINE USES OF RECORDS MAINTAINED IN THE SYSTEM, INCLUDING CATEGORIES OF USERS AND THE PURPOSE OF SUCH USES:

The routine uses for the FCR are compatible with the stated purpose of the system. Records maintained within the FCR may be disclosed to the following categories of users for the purposes listed. If any record contains a “family violence indicator” associated to the record by State child support agencies if there is reasonable evidence of domestic violence or child abuse, and that disclosure could be harmful to the party or the child, the record will not be disclosed from the FCR. However, disclosure of any information defined as “return or return information” under 26 U.S.C. 6103 of the Internal Revenue Code will not be disclosed unless authorized by a statute, the Internal Revenue Service (IRS), or IRS regulations.

ROUTINE USES INCLUDING FURNISHING INFORMATION TO THE FOLLOWING CATEGORIES OR USERS:

(1) Agents and attorneys of a State which has in effect an approved plan under Title IV-D of the Act who have duty or authority to collect child and spousal support for the purpose of establishing parentage or establishing, setting the amount of, modifying, or enforcing child support obligations pursuant to 42 U.S.C. 653(c)(1); (2) the court which has authority to issue an order against a non-custodial parent for the support and maintenance of a child, or to issue an order against a resident parent for child custody or visitation rights, or any agent of such court for the purpose of establishing parentage or establishing, setting the amount of, modifying, or enforcing child support obligations pursuant to 42 U.S.C 653(c)(2); (3) the resident parent, legal guardian, attorney, or agent of a child (other than a child receiving TANF assistance) for the purpose of establishing parentage or establishing, setting the amount of, modifying, or enforcing child support obligations. 42 U.S.C. 653(c)(3); (4) a State agency that is administering a program operated under a State plan under subpart 1 of part B of the Act (Child Welfare Services) or a State plan approved under subpart 2 of part B (Promoting Safe and Stable Families) or under part E (Foster Care and Adoption Assistance), for the purpose of locating or facilitating the discovery of an individual who is or may be a child's parent pursuant to 42 U.S.C. 653(c)(4). Only information as to the name, SSN, address or location, and employment wages, benefits or income of the parent shall be provided under this section. Requests must be made through the State child support agency; (5) the Social Security Administration for verification of name, SSN, and birth dates pursuant to 42 U.S.C. 653(j)(1); (6) State agencies for the purpose of locating individuals in a paternity establishment case or a case involving the establishment, modification, or enforcement of a support order pursuant to 42 U.S.C. 653(j)(2)(B); (7) State agencies for the purpose of assisting States to carry out their responsibilities under programs operated under Titles IV-D (child support programs) and IV-A (TANF) of the Act pursuant to 42 U.S.C 653(j)(3)(B); (8) agents or attorneys of States having an agreement under this section who have the duty or authority to enforce child custody or visitation determinations. Requests may be made for the purpose of determining the whereabouts of any parent or child when such information is to be used to locate such parent or child for the purpose of making or enforcing a child custody or visitation determination. Only information as to the most recent address and place of employment of any parent or child shall be provided under this section pursuant to 42 U.S.C. 663(d)(2)(A); (9) courts or their agents having jurisdiction to make or enforce a child custody or visitation determination. Requests may be made for the purpose of determining the whereabouts of any parent or child when such information is to be used to locate such parent or child for the purpose of making or enforcing a child custody or visitation determination. Only information as to the most recent address and place of employment of any parent or child shall be provided under this section pursuant to 42 U.S.C. 663(d)(2)(B); (10) agents or attorneys of the United States having an agreement under this section with the U.S. Attorney, or of a State, who have the authority or duty to investigate, enforce, or prosecute the unlawful taking or restraint of a child. The request may be made for the purpose of determining the whereabouts of any parent or child when such information is to be used to locate such parent or child for the purpose of enforcing any State or Federal law with respect to the unlawful taking or restraint of a child. Only information as to the most recent address and place of employment of any parent or child shall be provided under this section pursuant to 42 U.S.C. 663(d)(2)(C) and 42 U.S.C. 663(f); (11) the U.S. Central Authority (U.S. Department of State) designated in accordance with the International Child Abduction Act, for the purpose of locating any parent or child on behalf of an applicant to that Central Authority. Only information as to the state of residence shall be provided under this section pursuant to 42 U.S.C. 663(e); (12) the Secretary of Treasury for the purpose of administering sections of the Internal Revenue Code which grant tax benefits based on support or residence of children pursuant to 42 U.S.C. 653(h)(3); (13) researchers for approved research purposes found by the Secretary to be likely to contribute to achieving the purposes of part A or part B of title IV of the Act, but without personal identifiers pursuant to 42 U.S.C. 653(j)(5); (14) any of the departments, agencies, or instrumentalities of the United States or of any State for the purpose of locating the individual, information on the individual's location, wages (or other income) from, and benefits of, employment (including rights to or enrollment in group health care coverage) and information on the type, status, location, and amount of any assets of, or debts owed by or to, any such individual pursuant to 42 U.S.C. 653(e); (15) a foreign reciprocating country in cases involving residents of the United States and residents of foreign countries that are the subject of a declaration under section 459A of the Social Security Act. Information disclosed is the State of residence of individuals sought for support enforcement purposes pursuant to 42 U.S.C.659A(c)(2); (16) OCSE and HHS Office of Inspector General, Office of Investigations, to identify, investigate, and, where warranted, to a U.S. Attorney for Federal nonsupport prosecution under 18 U.S.C. 228; (17) in the event of a breach of FCR data, an authorized individual or entity for response and remedial efforts related to such breach; and (18) an entity under contract to operate the records in the FCR for the purpose of accomplishing an agency function.

DISCLOSURES TO CONSUMER REPORTING AGENCIES:

None.

POLICIES AND PRACTICES FOR STORING, RETRIEVING, ACCESSING, RETAINING, AND DISPOSING OF RECORDS IN THE SYSTEM:

STORAGE:

Records in the FCR are stored electronically at the Social Security Administration's National Computer Center. Historical logs and system backups are stored offsite at an alternate location.

RETRIEVABILITY:

System records can be retrieved by an identification number assigned to a child support case by the State child support agency or an SSN of the individuals whose records are maintained in the FCR.

SAFEGUARDS:

OCSE has established appropriate administrative, technical and physical safeguards to ensure the security and confidentiality of records maintained in the FCR. These safeguards include, but are not limited to, the following:

(1) Administrative Safeguards. On an annual basis, a risk assessment and a security assessment are conducted. Personnel are required to undergo background checks and must participate annually in security awareness training. (2) Technical Safeguards. Identification and authentication controls for access to the system and for access to the datasets are used, with audit logging for accountability. Records are encrypted prior to transmission. Firewalls and intrusion detection equipment are in place. (3) Physical Safeguards: Policies and procedures limit physical access to the system and the facility in which it is housed, while ensuring that authorized access is allowed. Guards, electronic monitoring, access keys, personal badges and physical barriers all contribute to the physical safeguarding of the system and the records maintained therein.

Records maintained in the FCR are secured in full compliance with Federal requirements, including the Federal Information Security Management Act and the HHS Security Program Policy, and in accordance with requirements governing a FIPS 199 categorized system. The FCR is fully certified and accredited in accordance with HHS requirements and guidance issued by the National Institute of Standards and Technology.

RETENTION AND DISPOSAL:

(1) Records provided from State child support agencies. (a) Electronic records furnished by the State child support agency containing child support case and order information (input files) are retained for 60 days and then deleted. (b) State agency records (as posted to the FCR) remain within the FCR until removed, upon notification by the State agency that the case is closed and notifies OCSE to remove it from the FCR, provided that, upon request, a sample may be retained for research purposes found by OCSE to be likely to contribute to achieving the purposes of child support programs or the TANF program, but without personal identifiers. (c) Records pertaining to closed cases are archived on the fiscal year basis and retained for two years. Family violence indicators are removed from the individual's record, upon request by the State that initiated the indicator. (2) Locate requests and match results. (a) Locate requests submitted by State child support agencies and other authorized persons are retained for 60 days and are then deleted. (b) Audit trail records of locate requests and disclosures of match results pursuant to those requests, which include indications of which Federal agencies were contacted for locate information, whether information was located, and the type(s) of information returned to the requesting entity. These records are archived once a year based on the fiscal year. The records are retained for two completed fiscal years and then destroyed. These records indicate the type of information located for the authorized user, not the information itself. (c) Copies of records containing information from the NDNH or other agencies obtained pursuant to locate requests are provided to authorized persons through the FCR. They are maintained within the FCR for one year for the purpose of electronically filtering and suppressing redundant information from being transmitted. After one year, the records are deleted. (3) Match results generated as a result of FCR to FCR comparisons which locate individuals who are participants in child support cases or orders in more than one state are transmitted to the relevant States. Copies of FCR to FCR match results are retained for 60 days and then deleted. (4) Any record relating or potentially relating to a fraud or abuse investigation or a pending or ongoing legal action including a class action, is retained until conclusion of the investigation or legal action. (5) Copies of the FCR records transmitted annually to the IRS for the purpose of administering the earned income tax credit (routine use 12) are retained for one year and then deleted.

SYSTEM MANAGER(S) AND ADDRESS:

Director, Division of Federal Systems, Office of Automation and Program Operations, Office of Child Support Enforcement, Administration for Children and Families, 370 L'Enfant Promenade, SW., 4th Floor East, Washington, DC 20447.

NOTIFICATION PROCEDURES:

To determine if a record exists, write to the Systems Manager at the address listed above. The Privacy Act requires that, except under certain conditions specified in the law, only the subject of the records may have access to them. All requests must be submitted in the following manner: Identify the system of records to be searched, have the request notarized to verify requestor's identity, and requestor should indicate awareness that the knowing and willful request for or acquisition of a Privacy Act record under false pretenses is a criminal offense subject to a $10,000 fine. The requestor's letter must also provide sufficient particulars to enable OCSE to distinguish between records on subject individuals with the same name.

RECORD ACCESS PROCEDURES:

Write to the Systems Manager specified above to attain access to records. Requestors should provide a detailed description of the record content they are seeking.

CONTESTING RECORD PROCEDURES:

Contact the official at the address specified under the Systems Manager above, and identify the record and specify the information to be contested and corrective action sought with supporting justification to show how the record is inaccurate, incomplete, untimely, or irrelevant.

RECORD SOURCE CATEGORIES:

Records maintained within the FCR are furnished by State child support agencies. Records disseminated from the FCR for the purpose of providing locate information from the NDNH and other Federal agencies are furnished by departments, agencies, or instrumentalities of the United States or any State, employers, financial institutions, and insurers or their agents. Records maintained for the purpose of filtering redundant data are also furnished by these sources.

EXEMPTIONS CLAIMED FROM THE SYSTEM:

None.

[FR Doc. E8-7944 Filed 4-14-08; 8:45 am]

BILLING CODE 4184-01-P